Executive Order 13322 of December 30, 2003

Adjustments of Certain Rates of Pay

By the authority vested in me as President by the Constitution and the laws of the United States of America, including the laws cited herein, it is hereby ordered as follows:

Section 1. Statutory Pay Systems. The rates of basic pay or salaries of the statutory pay systems (as defined in 5 U.S.C. 5302(1)), as adjusted under 5 U.S.C. 5303(b), are set forth on the schedules attached hereto and made a part hereof:

(a) The General Schedule (5 U.S.C. 5332(a)) at Schedule 1;

(b) The Foreign Service Schedule (22 U.S.C. 3963) at Schedule 2; and

(c) The schedules for the Veterans Health Administration of the Department of Veterans Affairs (38 U.S.C. 7306, 7404; section 301(a) of Public Law 102-40) at Schedule 3.

Sec. 2. Senior Executive Service. The ranges of rates of basic pay for senior executives in the Senior Executive Service, as established pursuant to 5 U.S.C. 5382, as amended by section 1125 of Public Law 108-136, are set forth on Schedule 4 attached hereto and made a part hereof.

Sec. 3. Executive and Certain Other Salaries. The rates of basic pay or salaries for the following offices and positions are set forth on the schedules attached hereto and made a part hereof:

(a) The Executive Schedule (5 U.S.C. 5311-5318) at Schedule 5;

(b) The Vice President (3 U.S.C. 104) and the Congress (2 U.S.C. 31) at Schedule 6; and

(c) Justices and judges (28 U.S.C. 5, 44(d), 135, 252, and 461(a), section 140 of Public Law 97-92, and Public Law 108-167) at Schedule 7.

Sec. 4. Uniformed Services. Pursuant to section 601(a)-(b) of Public Law 108-136, the rates of monthly basic pay (37 U.S.C. 203) for members of the uniformed services, as adjusted under 37 U.S.C. 1009, and the rate of monthly cadet or midshipman pay are set forth on Schedule 8 attached hereto and made a part hereof.

Sec. 5. Locality-Based Comparability Payments.

(a) Pursuant to sections 5304 and 5304a of title 5, United States Code, locality-based comparability payments shall be paid in accordance with Schedule 9 attached hereto and made a part hereof.

(b) The Director of the Office of Personnel Management shall take such actions as may be necessary to implement these payments and to publish appropriate notice of such payments in the Federal Register.

Sec. 6. Administrative Law Judges. The rates of basic pay for administrative law judges, as adjusted under 5 U.S.C. 5372(b)(4), are set forth on Schedule 10 attached hereto and made a part hereof.

Sec. 7. Effective Dates. Schedule 8 is effective on January 1, 2004. The other schedules contained herein are effective on the first day of the first applicable pay period beginning on or after January 1, 2004.

Sec. 8. Prior Order Superseded. Executive Order 13282 of December 31, 2002, as amended by Executive Order 13291 of March 21, 2003, is superseded.

B

THE WHITE HOUSE,

December 30, 2003.

Billing code 3195-01-P

[FR Doc. 03-32328

Filed 12-31-03; 11:22 am]

Billing code 6325-01-C